NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities will hold fourteen meetings of the Humanities Panel, a federal advisory committee, during October 2019. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 10, 2019

This meeting will discuss applications on the topic of Literature, for the Humanities Collections and Reference Resources grant program, submitted to the Division of Preservation and Access.

2. Date: October 17, 2019

This meeting will discuss applications on the topic of Art History, for the Humanities Collections and Reference Resources grant program, submitted to the Division of Preservation and Access.

3. Date: October 21, 2019

This meeting will discuss applications on the topic of History, for Media Projects: Development Grants, submitted to the Division of Public Programs.

4. Date: October 22, 2019

This meeting will discuss applications on the topic of History, for Media Projects: Production Grants, submitted to the Division of Public Programs.

5. Date: October 22, 2019

This meeting will discuss applications on the topic of Media Studies, for the Humanities Collections and Reference Resources grant program, submitted to the Division of Preservation and Access.

6. Date: October 24, 2019

This meeting will discuss applications on the topics of Architecture and Urban Studies, for the Humanities Collections and Reference Resources grant program, submitted to the Division of Preservation and Access.

7. Date: October 24, 2019

This meeting will discuss applications on the topics of Native American and Western U.S. History, for the Public Humanities Projects: Exhibitions (Implementation) grant program, submitted to the Division of Public Programs.

8. Date: October 25, 2019

This meeting will discuss applications on the topic of World Studies: Ancient to Early Modern, for the Humanities Collections and Reference Resources grant program, submitted to the Division of Preservation and Access.

9. Date: October 25, 2019

This meeting will discuss applications on the topic of History, for Media Projects: Development Grants, submitted to the Division of Public Programs.

10. Date: October 28, 2019

This meeting will discuss applications on the topic of Cultural History, for Media Projects: Production Grants, submitted to the Division of Public Programs.

11. Date: October 29, 2019

This meeting will discuss applications on the topics of American Studies and Visual Culture, for the Humanities Collections and Reference Resources grant program, submitted to the Division of Preservation and Access.

12. Date: October 30, 2019

This meeting will discuss applications for the Short Documentaries grant program, submitted to the Division of Public Programs.

13. Date: October 31, 2019

This meeting will discuss applications on the topic of U.S. History: Social, for the Humanities Collections and Reference Resources grant program, submitted to the Division of Preservation and Access.

14. Date: October 31, 2019

This meeting will discuss applications on the topics of Historic Places and U.S. History, for the Public Humanities Projects: Historic Places (Implementation) grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: September 17, 2019.
Elizabeth Voyatzis,
Committee Management Officer, National Endowment for the Humanities.

[FR Doc. 2019-20460 Filed 9-20-19; 8:45 am]

BILLING CODE 7536-01-P